DEPARTMENT OF TRANSPORTATION

Federal Railroad Administration

[Docket No. FRA-2022-0002-N-18]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Requests (ICRs) abstracted below to the Office of Management and Budget (OMB) for review and comment. These ICRs describe the information collections and their expected burdens. On July 5, 2022, FRA published a notice providing a 60-day period for public comment on the ICRs.

DATES: Interested persons are invited to submit comments on or before February 9, 2023.

ADDRESSES: Written comments and recommendations for the proposed ICRs should be sent within 30 days of publication of this notice to www.reginfo.gov/public/do/PRAMain. Find the particular ICR by selecting “Currently under 30-day Review—Open for Public Comments” or by using the search function.

FOR FURTHER INFORMATION CONTACT: Ms. Hodan Wells, Information Collection Clearance Officer at email: Hodan.Wells@dot.gov or telephone: (202) 868-9412.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On July 5, 2022, FRA published a 60-day notice in the Federal Register soliciting comment on the ICRs for which it is now seeking OMB approval. See 87 FR 39896. FRA received one comment from the public that was outside the scope of this notice.

Before OMB decides whether to approve the proposed collections of information, it must provide 30 days for public comment. Federal law requires OMB to approve or disapprove paperwork packages between 30 and 60 days after the 30-day notice is published. 44 U.S.C. 3507(b)-(c); 5 CFR 1320.12(a); see also 60 FR 44978, 44983 (Aug. 29, 1995). OMB believes the 30-day notice informs the regulated community to file relevant comments and affords the agency adequate time to digest public comments before it renders a decision. 60 FR 44983 (Aug. 29, 1995). Therefore, respondents should submit their respective comments to OMB within 30 days of publication to best ensure having their full effect.

Comments are invited on the following ICRs regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summaries below describe the ICRs that FRA will submit for OMB clearance as the PRA requires:

Title: Filing of Dedicated Cars.

OMB Control Number: 2130-0502.

Abstract: Title 49 CFR part 215 contains freight car safety standards, including conditions for freight cars in dedicated service. “Dedicated service” means the exclusive assignment of railroad cars to the transportation of freight between specified points under the conditions listed in 49 CFR 215.5(d), including stenciling, or otherwise displaying, in clear legible letters on each side of the car body, the words “Dedicated Service.” The railroad must notify FRA in writing that the cars are to be operated in dedicated service.

Type of Request: Extension without change (with changes in estimates) of a currently approved collection.

Affected Public: Businesses.

Form(s): N/A.

Respondent Universe: 754 railroads.

Frequency of Submission: On occasion.

Total Estimated Annual Responses: 4.

Total Estimated Annual Burden: 4 hours.

Total Estimated Annual Burden Hour Dollar Cost Equivalent: $310.

Title: Remotely Controlled Switch Operations.

OMB Control Number: 2130-0516.

Abstract: Title 49 CFR 218.30 and 218.77 require that remotely controlled switches be properly lined to protect workers as they inspect or service rolling equipment on track or occupy camp cars. These sections require the operators of the remotely controlled switches to remove the locking device controlling the switches only once they have been informed by the person in charge of the workers that it is safe to do so. Additionally, these operators are required to maintain a record of each protection request for 15 days. Operators of remotely controlled switches use the information as a record documenting protection of workers or camp cars. This record also serves as a valuable resource for railroad supervisors and FRA and State inspectors monitoring regulatory compliance.

In this 60-day notice, FRA decreased the estimated paperwork burden under § 218.30 by 1,209 hours. The decreased burden reflects the reduction in number of work events in the railroad industry.

Type of Request: Extension without change (with changes in estimates) of a currently approved collection.

Affected Public: Businesses.

Form(s): N/A.

Respondent Universe: 53 railroads.

Frequency of Submission: On occasion.

Total Estimated Annual Responses: 1,837,925.

Total Estimated Annual Burden: 22,974 hours.

Total Estimated Annual Burden Hour Dollar Cost Equivalent: $1,375,912.

Title: Bad Order, Home Shop Card, and Stenciling Reporting Mark.

OMB Control Number: 2130-0519.

Abstract: Under 49 CFR part 215, railroads are required to inspect freight cars placed in service and take remedial action when defects are identified. A railroad freight car with a part 215 defect may be moved to another location for repair only after the railroad has complied with the process under 49 CFR 215.9. Section 215.9 requires railroads to affix a “bad order” tag describing each defect to each side of the freight car. It is imperative that a defective freight car be tagged “bad order” so it can be readily identified and moved to another location for repair purposes only, and so that the maximum speed and other restrictions necessary for safely conducting the movement are known. At the repair location, the “bad order” tag serves as a notification of the defective condition of the freight car. Railroads must retain each tag for 90 days to verify that proper repairs were made at the designated location. When inspecting a freight car, FRA and State inspectors review all pertinent records to determine railroads' compliance with the movement restrictions of 49 CFR 215.9.

Additionally, § 215.301 requires railroads and private car owners to stencil or otherwise display identification marks on freight cars, including a car number and build date. FRA uses the identification marks to help obtain certain information related to a car's compliance with Federal safety laws. The marks are used consistently across railroad records to identify the car and show: the type of car, what it is carrying, its movement history, and current maintenance schedule. Using the marks to identify the cars helps FRA determine the application of Federal safety laws to that car and who is responsible for compliance. FRA also uses this information to determine if the freight car qualifies for dedicated service and is excluded from the requirements of part 215. Railroads use the required information to provide identification and control so that dedicated cars remain in the prescribed service.

Type of Request: Extension without change (with changes in estimates) of a currently approved collection.

Affected Public: Businesses.

Form(s): N/A.

Respondent Universe: 754 railroads.

Frequency of Submission: On occasion.

Total Estimated Annual Responses: 285,000.

Total Estimated Annual Burden: 38,000 hours.

Total Estimated Annual Burden Hour Dollar Cost Equivalent: $2,290,260.

Title: Rear End Marking Devices.

OMB Control Number: 2130-0523.

Abstract: Title 49 CFR part 221 contains requirements for rear end marking devices. Railroads must provide FRA with a detailed description of the type of marking devices used for any locomotive operating singly or for cars or locomotives operating at the end of a train (trailing end) to ensure that they meet minimum standards for visibility and display. Specifically, part 221 requires railroads to furnish a certification that each device has been tested in accordance with current “Guidelines for Testing of Rear End Marking Devices.” Additionally, part 221 requires railroads to furnish detailed test records, which include the names of testing organizations, test descriptions, number of samples tested, and the test results, to demonstrate compliance with the performance standard.

Type of Request: Extension without change (with changes in estimates) of a currently approved collection.

Affected Public: Businesses.

Form(s): N/A.

Respondent Universe: 754 railroads and 24 manufacturers.

Frequency of Submission: On occasion.

Total Estimated Annual Responses: 2.

Total Estimated Annual Burden: 2 hours.

Total Estimated Annual Burden Hour Dollar Cost Equivalent: $155.

FRA informs all interested parties that it may not conduct or sponsor, and a respondent is not required to respond to, a collection of information that does not display a currently valid OMB control number.

Authority: 44 U.S.C. 3501-3520.

Brett A. Jortland,
Deputy Chief Counsel.

[FR Doc. 2023-00293 Filed 1-9-23; 8:45 am]

BILLING CODE 4910-06-P